COMMITTEE FOR THE IMPLEMENTATION OF TEXTILE AGREEMENTS

Extension of Temporary Amendment to the Requirements for Participating in the Special Access Program for Caribbean Basin Countries

December 21, 2000.

AGENCY: Committee for the Implementation of Textile Agreements (CITA).

ACTION: Issuing a directive to the Commissioner of Customs extending amendments of requirements for participation in the Special Access Program for a temporary period.

EFFECTIVE DATE: January 1, 2001.

FOR FURTHER INFORMATION CONTACT: Lori E. Mennitt, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

A notice published in the Federal Register on December 18, 1998 (63 FR 70112), amended on December 24, 1998 (64 FR 149, published on January 4, 1999), extended the exemption period for women's and girls' and men's and boys' chest type plate, “hymo” piece or “sleeve header” of woven or weft-inserted warp knit construction of coarse animal hair or man-made filaments used in the manufacture of tailored suit jackets and suit-type jackets in Categories 433, 435, 443, 444, 633, 635, 643 and 644, which are entered under the Special Access Program, for the periods December 23, 1998 through December 31, 2000 for women's and girls'; and September 23, 1998 through December 31, 2000 for men's and boys'. See also 61 FR 49439, published on September 20, 1996, as amended. On December 9, 1999, that directive was amended to include goods covered under the Outward Processing Program (see 64 FR 69746, published on December 14, 1999.).

Effective on January 1, 2001, these directives are being amended to extend this exemption period from January 1, 2001 through December 31, 2002.

A description of the textile and apparel categories in terms of HTS numbers is available in the CORRELATION: Textile and Apparel Categories with the Harmonized Tariff Schedule of the United States (see Federal Register notice 64 FR 71982, published on December 22, 1999).

Richard B. Steinkamp,
Chairman, Committee for the Implementation of Textile Agreements.

Committee for the Implementation of Textile Agreements

December 21, 2000.

Commissioner of Customs,

Department of the Treasury, Washington, DC 20229.

Dear Commissioner: This directive amends, but does not cancel, the directives issued to you on December 14, 1998, December 24, 1998, and December 9, 1999 by the Chairman, Committee for the Implementation of Textile Agreements. Those directives concern the foreign origin exception for findings and trimmings in Categories 433, 435, 443, 444, 633, 635, 643 and 644 under the Special Access Program and extended the amendment for the periods December 23, 1998 through December 31, 2000 for women's and girls' “hymo” type interlinings and September 23, 1998 through December 31, 2000 for men's and boys' “hymo” type interlinings. See also directive dated September 16, 1996 (61 FR 49439), as amended.

Effective on January 1, 2001, by date of export, you are directed to extend through December 31, 2002, the amendment to treat non-U.S. formed, U.S.-cut interlinings for chest type plate, “hymo” piece or “sleeve header” of woven or welf-inserted warp knit construction of coarse animal hair or man-made filaments used in the manufacture of tailored suit jackets and suit-type jackets in Categories 433, 443, 633 and 643 as qualifying for exception for findings and trimmings, including elastic strips less than one inch in width, created under the Special Access Program effective September 1, 1986 (see 51 FR 21208). In the aggregate, such interlinings, findings and trimmings must not exceed 25 percent of the cost of the components of the assembled article. Non-U.S. formed, U.S.-cut interlinings may be used in imports of women's and girls' and men's and boys' suit jackets and suit-type jackets entered under the Special Access Program (9802.00.8015) provided they are cut in the United States and of a type described above.

The Committee for the Implementation of Textile Agreements has determined that this action falls within the foreign affairs exception of the rulemaking provisions of 5 U.S.C. 553(a)(1).

Sincerely,
Richard B. Steinkamp,
Chairman, Committee for the Implementation of Textile Agreements.

[FR Doc. 00-33050 Filed 12-27-00; 8:45 am]

BILLING CODE 3510-DR-F